NATIONAL CREDIT UNION ADMINISTRATION

Sunshine Act Meetings

Federal Register CITATION OF PREVIOUS ANNOUNCEMENT: October 14, 2020 (85 FR 65076).

PREVIOUSLY ANNOUNCED TIME AND DATE OF THE MEETING: 10:00 a.m., Thursday, October 15, 2020.

CHANGES IN THE MEETING: Matter to be removed from the agenda of an agency meeting: 4. Request for Information, Supervisory Guidance Review and Improvements in Communications.

CONTACT PERSON FOR MORE INFORMATION: Melane Conyers-Ausbrooks, Secretary of the Board, Telephone: 703-518-6304.

Melane Conyers-Ausbrooks,
Secretary of the Board.

[FR Doc. 2020-23176 Filed 10-15-20; 11:15 am]

BILLING CODE 7535-01-P